DEPARTMENT OF ENERGY

Federal Energy Regulatory Commission

Combined Notice of Filings #1

Take notice that the Commission received the following electric rate filings:

Docket Numbers: ER10-2394-002; ER10-2395-002; ER10-2422-002; ER10-2389-001.

Applicants: BIV Generation Company, L.L.C., Colorado Power Partners, Rocky Mountain Power, LLC, San Joaquin Cogen, LLC.

Description: Notice of Non-Material Change in Status of BIV Generation Company, L.L.C., et al.

Filed Date: 4/16/14.

Accession Number: 20140416-5098.

Comments Due: 5 p.m. ET 5/7/14.

Docket Numbers: ER14-1135-003.

Applicants: Renewable Power Direct, LLC.

Description: Original Volume No. 1 to be effective 4/1/2014.

Filed Date: 4/16/14.

Accession Number: 20140416-5119.

Comments Due: 5 p.m. ET 5/7/14.

Docket Numbers: ER14-1711-000.

Applicants: TC Ravenswood, LLC.

Description: Oil Burn Rate Schedule to be effective 5/1/2014.

Filed Date: 4/11/14.

Accession Number: 20140411-5247.

Comments Due: 5 p.m. ET 5/2/14.

Docket Numbers: ER14-1711-000.

Applicants: TC Ravenswood, LLC.

Description: Errata to April 11, 2014 TC Ravenswood, LLC tariff filing.

Filed Date: 4/16/14.

Accession Number: 20140416-5107.

Comments Due: 5 p.m. ET 5/2/14.

Docket Numbers: ER14-1724-000.

Applicants: Midcontinent Independent System Operator, Inc.

Description: 2014-04-15 SA 6507 White Pine SSR Agreement to be effective 4/16/2014.

Filed Date: 4/15/14.

Accession Number: 20140415-5158.

Comments Due: 5 p.m. ET 5/6/14.

Docket Numbers: ER14-1725-000.

Applicants: Midcontinent Independent System Operator, Inc.

Description: 2014-04-15_Schedule 43H—White Pine SSR to be effective 4/16/2014.

Filed Date: 4/15/14.

Accession Number: 20140415-5162.

Comments Due: 5 p.m. ET 5/6/14.

Docket Numbers: ER14-1726-000.

Applicants: PJM Interconnection, L.L.C.

Description: Notice of Cancellation of Original Service Agreement No. 2207 of PJM Interconnection, L.L.C.

Filed Date: 4/15/14.

Accession Number: 20140415-5187.

Comments Due: 5 p.m. ET 5/6/14.

Docket Numbers: ER14-1727-000.

Applicants: ISO New England Inc.

Description: Conform Sections to Approved Language to be effective 4/15/2014.

Filed Date: 4/16/14.

Accession Number: 20140416-5034.

Comments Due: 5 p.m. ET 5/7/14.

Take notice that the Commission received the following electric securities filings:

Docket Numbers: ES14-34-000.

Applicants: Wolverine Power Supply Cooperative, Inc.

Description: Application under Section 204 of Wolverine Power Supply Cooperative, Inc.

Filed Date: 4/16/14.

Accession Number: 20140416-5097.

Comments Due: 5 p.m. ET 5/7/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2014.
Nathaniel J. Davis, Sr.,
Deputy Secretary.

[FR Doc. 2014-09268 Filed 4-22-14; 8:45 am]

BILLING CODE 6717-01-P